DEPARTMENT OF ENERGY

[GDO Docket No. EA-523]

Application for Authorization To Export Electric Energy; Danske Commodities US LLC

AGENCY: Grid Deployment Office, Department of Energy.

ACTION: Notice of application.

SUMMARY: Danske Commodities US LLC (the Applicant or Danske Commodities) has applied for authorization to transmit electric energy from the United States to Canada pursuant to the Federal Power Act.

DATES: Comments, protests, or motions to intervene must be submitted on or before August 6, 2025.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On March 31, 2025, Danske Commodities filed an application (Application or App.) for authorization to transmit electric energy from the United States to Canada for a term of ten years. App. at 1.

According to the Application, Danske Commodities is a power marketer with its principal place of business in Stamford, Connecticut. Id. at 2. The Applicant states that it is “owned 100% by Equinor US Holdings Inc. . .., a Delaware corporation.” Id. Danske Commodities represents that it is “authorized by the Federal Energy Regulatory Commission. . . to engage in the purchase and sale of physical and/or virtual energy in the Day-ahead and Real-time Markets of the various Independent System Operators and Regional Transmission Organizations.” Id.

The Applicant states that it “has no electric power supply system on which the proposed exports could have a reliability, fuel use system, or stability impact” and has “no obligation to serve native load usually associated with a franchised service area.” App. at 3-4. Danske Commodities represents that it will purchase “power to be exported from a variety of sources, including but not limited to, power marketers, independent power producers, or U.S. electric utilities and federal power marketing entities[.]” Id. at 4. The Applicant thus asserts that its proposed exports “will not impair the sufficiency of the electric power supply within the U.S.” Id.

Danske Commodities further asserts that its proposed exports will not impair or tend to impede the sufficiency of electric supplies in the U.S. or the regional coordination of electric utility planning or operations. App. at 5. The Applicant states that it “will make all necessary commercial arrangements and will obtain any and all other regulatory approvals required in order to schedule and deliver power exports.” Id. at 4.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning Danske Commodities' Application should be clearly marked with GDO Docket No. EA-523. Additional copies are to be provided directly to Petra Páll, Danske Commodities US LLC, Vaerkmestergade 3, 8000, Aarhus, Denmark, ppl@danskecommodities.com; Nicholas H. Salalayko, Pierce Atwood LLP, 254 Commercial Street, Portland, ME 04101, nsalalayko@pierceatwood.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority

This document of the Department of Energy was signed on June 30, 2025, by Chris Wright, Secretary of Energy, U.S Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 2, 2025.
Treena V. Garrett,
Federal Register Liaison Officer, U.S. Department of Energy.

[FR Doc. 2025-12574 Filed 7-3-25; 8:45 am]

BILLING CODE 6450-01-P